DEPARTMENT OF HEALTH AND HUMAN SERVICES

Centers for Disease Control and Prevention

[60Day-01-24]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

National Public Health Performance Standards Program Local Public Health System Assessment—Revised—Public Health Practice Program Office (PHPPO), Centers for Disease Control and Prevention (CDC).

Since 1998,the CDC National Public Health Performance Standards Program has convened workgroups with the National Association of County and City Health Officials (NACCHO), the Association of State and Territorial Health Officials (ASTHO), the National Association of Local Boards of Health (NALBOH), the American Public Health Association (APHA), and the Public Health Foundation (PHF) to develop performance standards for public health systems based on the ten Essential Services of Public Health. In the fall of 2000, CDC conducted field tests with the local public health survey instruments in the States of Hawaii, Minnesota, and Mississippi.

CDC is now proposing to implement a voluntary data collection to assess the capacity of local public health systems to deliver the Essential Public Health Services. Electronic data submission will be the method of choice. If computer technology in local jurisdictions does not support electronic submission, hard-copy survey instruments will be available. Local jurisdictions using hard-copy survey instruments will receive assistance from State or local level field coordinators for web-based data entry.

Local health departments will respond to the survey on behalf of the collective body of representatives from the local public health system. An estimated 25% of approximately 3,500 United States local health departments are expected to participate in the National Performance Standards Program during the first year. In year 2, an additional 30% are expected to complete the assessment. The remaining 25% of local health agencies are expected to collaborate with and submit survey data with other respondents. There are no cost to respondents.

National Performance Standards Program Burden Table
Respondents | Number of respondents | Number of responses per respondent | Average burden per response (in hrs.) | Total burden per response (in hrs.)
Year 1
Local Public Health Agencies | 875 | 1 | 11 | 9,625
Year 2
Local Public Health Agencies | 1050 | 1 | 11 | 11,550
Total |  |  |  | 22

Dated: March 2, 2001.
Nancy Cheal,
Acting Associate Director for Policy, Planning, and Evaluation, Centers for Disease Control and Prevention.

[FR Doc. 01-5731 Filed 3-7-01; 8:45 am]

BILLING CODE 4163-18-P